DEPARTMENT OF THE TREASURY

Submission for OMB Review; Comment Request

June 12, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 20, 2001 to be assured of consideration.

Departmental Offices/Office of Financial Institutions Policy

OMB Number: 1505-0179.

Form Number: None.

Type of Review: Extension.

Title: Financial Subsidiaries (Interim Final Rule).

Description: Pursuant to Section 5136A(b)(3) of the Revised Statutes, the interim rule finds three general types of activities to be financial in nature, and creates a mechanism by which national banks or others may request that the Secretary define particular activities within one of the three categories.

Respondents: Business or other for-profit.

Estimated Number of Respondents: 5.

Estimated Burden Hours Per Respondent: 20 hours.

Frequency of Response: On occasion.

Estimated Total Reporting Burden: 100 hours.

OMB Number: 1505-0182.

Form Number: None.

Type of Review: Extension.

Title: Merchant Banking Investments.

Description: The rule requires financial holding companies engaged in merchant banking activities to have and maintain certain policies, procedures, records and systems to monitor and manage such activities and the risks associated with such activities in a safe and sound manner.

Respondents: Business or other for-profit.

Estimated Number of Recordkeepers: 450.

Estimated Burden Hours Per Recordkeeper: 50 hours.

Frequency of Response: On occasion.

Estimated Total Recordkeeping Burden: 22,500 hours.

Clearance Officer: Lois K. Holland (202) 622-1563, Departmental Offices, Room 2110, 1425 New York Avenue, NW, Washington, DC 20220.

OMB Reviewer: Alexander T. Hunt (202) 395-7860, Office of Management and Budget, Room 10202, New Executive Office Building, Washington, DC 20503.

Lois K. Holland,
Departmental Reports Management Officer.

[FR Doc. 01-15532 Filed 6-19-01; 8:45 am]

BILLING CODE 4810-25-P